DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Targeted Capacity Expansion Grants for Jail Diversion Program Evaluation—In Use Without Approval

The Substance Abuse and Mental Health Services Administration's (SAMHSA), Center for Mental Health Services (CMHS) has implemented the Targeted Capacity Expansion Grants for Jail Diversion Programs. CMHS has developed a set of client outcome measures that will be collected over the length of the program.

Each jail diversion program participant has been approached to request their consent for participation. The main components of the baseline, 6- and 12-month interviews are Government Performance and Results Act (GPRA) measures. In addition to GPRA measures, the interviews include the following measures:

• DC Trauma Collaboration Study Violence and Trauma Screening to gauge traumatic events in the past year and lifetime (Baseline only)

• Colorado Symptom Index 1991 to gauge symptoms of mental illness (All interviews)

• Perceived Coercion Scale (from MacArthur Mandated Community Treatment Survey) to enter jail diversion programs (Baseline only)

• Mental Health Statistics Improvement Program quality of life measures (6 and 12 months only)

• Service use (6 and 12 months only)

In addition to data collected through interviews, grantees will collect the following information and will report it to the Technical Assistance and Policy Analysis (TAPA) Center:

• Events Tracking: This program captures the volume of activities (“events”) that jail diversion programs engage in to determine whom the program will serve.

• Person Tracking: This program is designed to record basic information on all individuals who are diverted and served with grant funds. It also helps grantees keep track of interview dates for those program participants who agree to take part in the evaluation.

• Service Use: Grantees collect self-reported data on services provided or information from official sources, such as statewide/agency management information systems or other agency records about the types of services received following diversion. This data must be provided to the TAPA Center.

• Arrest and Jail Days Data: Grantees report arrest and jail days data collected from official sources, such as a statewide criminal justice database, or that have been tracked for themselves for one year prior and one year following diversion.

As mentioned above, grantees collect this data from official sources or self-report data from their programs and submit it to the TAPA Center. This data is reported to the technical assistance provider through an electronic database system or through paper copies. Resulting compiled data is used to provide information of interest to policy makers, researchers, and communities engaged in developing jail diversion programs.

The following table summarizes the burden for the data collection:

Data collection activity | Number of respondents | Responses per respondent | Average hours per response | Annual hour burden
Client Interviews:
Baseline Interview | 360 | 1 | .75 | 270
6-month Interview | 306 | 1 | .75 | 230
12-month Interview | 306 | 1 | .75 | 230
Record Management:
Events Tracking | 4,500 | 2 | .017 | 153
Person Tracking | 400 | 1 | .025 | 10
Service Use Data | 306 | 1 | .133 | 41
Arrest and Jail Days Data | 306 | 1 | .133 | 41
Total: | 4,500 |  |  | 975

Send comments to Summer King, SAMHSA Reports Clearance Officer, OAS, Room 7-1044, 1 Choke Cherry Road, Rockville, MD 20857. Written comments should be received by June 6, 2005.

Dated: April 1, 2005.
Anna Marsh,
Executive Officer, SAMHSA.

[FR Doc. 05-6908 Filed 4-6-05; 8:45 am]

BILLING CODE 4162-20-P